DEPARTMENT OF HEALTH AND HUMAN SERVICES

Substance Abuse and Mental Health Services Administration

Center for Mental Health Services; Notice of Meeting

Pursuant to Public Law 92-463, notice is hereby given that the Substance Abuse and Mental Health Services Administration, (SAMHSA) Center for Mental Health Services (CMHS) National Advisory Council (NAC) will meet on July 27, 2017, from 3:00 p.m. to 4:00 p.m. (EDT) in a closed teleconference meeting.

The meeting will include discussion and evaluation of grant applications reviewed by SAMHSA's Initial Review Groups, and involves an examination of confidential financial and business information as well as personal information concerning the applicants. Therefore, the meeting will be closed to the public as determined by the Acting Deputy Assistant Secretary for Mental Health and Substance Use, in accordance with Title 5 U.S.C. 552b(c)(4) and (6) and Title 5 U.S.C. App. 2, 10(d).

Meeting information and a roster of Council members may be obtained either by accessing the SAMHSA Council Web site at http://www.samhsa.gov/about-us/advisory-councils/cmhs-national-advisory-council or by contacting Ms. Pamela Foote (see contact information below).

Committee Name: Substance Abuse and Mental Health Services Administration; Center for Mental Health Services National Advisory Council.

Dates/Time/Type: Thursday, July 27, 2017, 3:00 p.m. to 4:00 p.m. EDT: CLOSED.

Place: SAMHSA, 5600 Fishers Lane, 14th Floor, Conference Room 14SEH02, Rockville, Maryland 20857.

Contact: Pamela Foote, Designated Federal Official, SAMHSA CMHS NAC, 5600 Fishers Lane, Room 14E53C, Rockville, Maryland 20857, Telephone: (240) 276-1279, Fax: (301) 480-8491, Email: pamela.foote@samhsa.hhs.gov.

Carlos Castillo,
SAMHSA, Committee Management Officer.

[FR Doc. 2017-13734 Filed 6-29-17; 8:45 am]

BILLING CODE 4162-20-P